DEPARTMENT OF TRANSPORTATION

Federal Aviation Administration

14 CFR Part 71

[Docket No. FAA-2008-0610; Airspace Docket No. 08-ASW-10]

Establishment of Class E Airspace; Pampa, TX

AGENCY: Federal Aviation Administration (FAA), DOT.

ACTION: Direct final rule; confirmation of effective date; correction.

SUMMARY: This action confirms the effective date and makes a correction to the direct final rule that establishes Class E airspace at Pampa, Mesa Vista Ranch Airport, TX, published in the Federal Register July 7, 2008 (73 FR 38314) Docket No. FAA-2008-0610. This action corrects the final rule by adding “Mesa Vista Ranch Airport” to more clearly define the airport name in the airport description.

DATES: Effective Date: 0901 UTC September 25, 2008. The Director of the Federal Register approves this incorporation by reference action under Title 1, Code of Federal Regulations, part 51, subject to the annual revision of FAA Order 7400.9 and publication of conforming amendments.

FOR FURTHER INFORMATION CONTACT: Gary Mallett, Central Service Center, System Support Group, Federal Aviation Administration, Southwest Region, 2601 Meacham Blvd, Fort Worth, TX, 76193-0530; telephone (817) 222-4949.

SUPPLEMENTARY INFORMATION:

History

The FAA published a direct final rule with request for comments in the Federal Register July 7, 2008, (73 FR 38314), Docket No. FAA-2008-0610. The FAA uses the direct final rule procedure for non-controversial rules where the FAA believes that there will be no adverse public comment. This direct final rule advised the public that no adverse comments were anticipated, and that unless a written adverse comment, or a written notice of intent to submit an adverse comment, was received within the comment period, the regulation would become effective on September 25, 2008. No adverse comments were received; thus, this notice confirms that the direct final rule will become effective on this date. Also, the charting office recommended changing the airport description to include Mesa Vista Ranch Airport.

Authority: 49 U.S.C. 106(g); 40103, 40113, 40120; E.O. 10854, 24 FR 9565, 3 CFR, 1959-1963 Comp., p. 389.

Correction

In the Federal Register dated July 7, 2008, Federal Register Docket No. FAA-2008-0610, page 38315, column 3, line 50, change to read:

ASW TX Class E5 Pampa, Mesa Vista Ranch Airport, TX [New].

* * * * *

Issued in Fort Worth, TX on September 17, 2008.
Roger Trevino,
Acting Manager, Operations Support Group, ATO Central Service Center.

[FR Doc. E8-22719 Filed 9-25-08; 8:45 am]

BILLING CODE 4910-13-P